DEPARTMENT OF TRANSPORTATION

Maritime Administration

[Docket No. MARAD-2025-0829]

Request for Comments on the Renewal of a Previously Approved Information Collection: Seamen's Claims, Administrative Action, and Litigation

AGENCY: Maritime Administration (MARAD), U.S. Department of Transportation (DOT).

ACTION: Notice.

SUMMARY: The Maritime Administration (MARAD) invites public comments on its intention to request Office of Management and Budget (OMB) approval to renew an information collection in accordance with the Paperwork Reduction Act of 1995. The proposed collection OMB 2133-0522 (Seamen's Claims, Administrative Action, and Litigation) is used to evaluate injury claims made by seamen working aboard government-owned vessels. MARAD is required to publish this notice in the Federal Register to obtain comments from the public and affected agencies.

DATES: Comments must be submitted on or before December 1, 2025.

ADDRESSES: You may submit comments identified by Docket No. MARAD-2025-0829 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is reasonable for the Department's performance; (b) the accuracy of the estimated burden; (c) ways for the Department to enhance the quality, utility, and clarity of the information collection; and (d) ways that the burden could be lessened without reducing the quality of the collected information. The agency will summarize and/or include your comments in the request for OMB's clearance of this information collection.

FOR FURTHER INFORMATION CONTACT: Cameryn Miller, 202-641-5352, Office of Financial Approvals and Marine Insurance (MAR-770), U.S. Maritime Administration, 1200 New Jersey Avenue SE Washington, DC 20590, Email: Cameryn.miller@dot.gov.

SUPPLEMENTARY INFORMATION:

Title: Seamen's Claims, Administrative Action, and Litigation.

OMB Control Number: 2133-0522.

Type of Request: Extension, without change, of a previously approved collection.

Abstract: This information collection allows MARAD to accept claims from respondents pursuant to MARAD regulations 46 CFR part 327 for injury or illness sustained while serving as masters or members of a crew on board a vessel owned or operated by the United States. MARAD personnel will review respondent's information and determine the extent of any agency liability and corresponding payment.

Respondents: Seamen who suffered injury or illness while employed on U.S. owned or operated vessels, and/or surviving dependents, beneficiaries, and/or legal representatives of the officers or crew members who died aboard these vessels.

Affected Public: Individuals or households.

Estimated Number of Respondents: 15.

Estimated Number of Responses: 15.

Estimated Hours per Response: 12.5.

Annual Estimated Total Annual Burden Hours: 188.

Frequency of Response: Once Annually.

(Authority: The Paperwork Reduction Act of 1995; 44 U.S.C. Chapter 35, as amended; and 49 CFR 1.49.)

By Order of the Maritime Administration.
T. Mitchell Hudson, Jr.,
Secretary, Maritime Administration.

[FR Doc. 2025-19295 Filed 10-1-25; 8:45 am]

BILLING CODE 4910-81-P